DEPARTMENT OF AGRICULTURE

Agricultural Marketing Service

[Doc. No. AMS-SC-17-0023]

Notice of Request for Extension and Revision of a Currently Approved Information Collection

AGENCY: Agricultural Marketing Service, USDA.

ACTION: Notice and request for comments.

SUMMARY: In accordance with the Paperwork Reduction Act of 1995, this notice announces the Agricultural Marketing Service's (AMS) intention to request approval, from the Office of Management and Budget, for an extension of and revision to the currently approved information collection for the Child Nutrition Labeling Program.

DATES: Comments on this notice must be received by July 21, 2017 to be assured of consideration.

Additional Information or Comments: Contact Patricia Tung-Tayman, Contract Services Branch, Specialty Crops Inspection Division, Specialty Crops Programs, U.S. Department of Agriculture, STOP 0247, 1400 Independence Ave SW., telephone: (202) 720-0367 and FAX: (202) 690-1527; or Internet: http://www.regulations.gov.

SUPPLEMENTARY INFORMATION:

Title: Child Nutrition Labeling Program.

OMB Number: 0581-0261.

Expiration Date of Approval: 3 years from approval.

Type of Request: Extension and revision of a currently approved information collection.

Abstract: The Child Nutrition (CN) Labeling Program is a voluntary technical assistance service to aid schools and institutions participating in the National School Lunch Program (NSLP), School Breakfast Program (SBP), Child and Adult Care Food Program (CACFP), and Summer Food Service Program (SFSP) in determining the contribution toward the food-based meal pattern requirements of these programs. (See Appendix C to 7 CFR parts 210, 220, 225, and 226 for more information on this program). The existence of a CN label on a product assures schools and other Child Nutrition Program operators that the product contributes to the meal pattern requirements as printed on the label. However, there is no Federal requirement that commercial products must have a CN label statement in order to be included in meals served by schools and institutions. AMS officially opened the CN Labeling Program Operations Office on January 19, 2010.

To participate in the CN Labeling Program, a manufacturer submits a label application to AMS for evaluation. AMS reviews the product formulation to determine the contribution a serving of the product makes towards the food-based meal pattern requirements. The application form submitted to AMS is the same application form that a manufacturer submits to the USDA's Food Safety and Inspection Service (FSIS) Labeling and Program Delivery Division for review of meat and poultry labels. Participation in the CN Labeling Program is voluntary and manufacturers who wish to place a CN label on their products must comply with CN Labeling Program requirements.

Estimate of Burden: Public reporting burden for this collection of information is estimated to average 15 minutes per response.

Respondents: Manufacturers who produce food for the school foodservice.

Estimated Number of Respondents: 185.

Estimated Total Annual Responses: 1573.

Estimated Number of Responses per Respondent: 8.5.

Estimated Total Annual Burden on Respondents: 393.13 Hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Patricia Tung-Tayman, Contract Services Branch, Specialty Crops Inspection Division, Specialty Crops Programs, U.S. Department of Agriculture, STOP 0247, 1400 Independence Ave SW., telephone: (202) 720-0367 and FAX: (202) 690-3824; or Internet: http://www.regulations.gov.

All comments received will be available for public inspection during regular business hours at the same address.

All responses to this notice will be summarized and included in the request for OMB approval. All comments will become a matter of public record.

Dated: May 16, 2017.
Bruce Summers,
Acting Administrator, Agricultural Marketing Service.

[FR Doc. 2017-10323 Filed 5-19-17; 8:45 am]

BILLING CODE 3410-02-P